DEPARTMENT OF COMMERCE

National Oceanic and Atmospheric Administration

Public Meeting of the Ocean Exploration Advisory Board

AGENCY: Office of Oceanic and Atmospheric Research (OAR), National Oceanic and Atmospheric Administration (NOAA), Department of Commerce (DOC).

ACTION: Notice of public meeting.

SUMMARY: This notice sets forth the schedule and proposed agenda for a meeting of the Ocean Exploration Advisory Board (OEAB). OEAB members will discuss and provide advice on the Federal ocean exploration program, with a particular emphasis on the topics identified in the section on Matters to Be Considered.

DATES: The announced meeting is scheduled for Wednesday, July 6, 2022 from 9:00 a.m.-4:00 p.m. (EDT) and Thursday, July 7, 2022 from 9:00 a.m.-2:30 p.m. (EDT).

ADDRESSES: This will be an in-person meeting. The meeting will be held at the National Oceanic and Atmospheric Administration's Silver Spring Metro Center in Building 3 (SSMC3) Room 5836, located at 1315 East West Highway, Silver Spring, MD 20910. Information about how to participate, including COVID-19 related protocols and remote access, will be posted to the OEAB website at https://oeab.noaa.gov/.

FOR FURTHER INFORMATION CONTACT: Mr. David Turner, Designated Federal Officer, Ocean Exploration Advisory Board, National Oceanic and Atmospheric Administration, David.Turner@noaa.gov or (859) 327-9661.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs, and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Matters To Be Considered: The OEAB will deliberate about the rapid evolution of ocean exploration as a discipline; the rapidly emerging technological capabilities that are in many ways driving that evolution; and new opportunities that are revealed in the wake of that evolution. They will also receive updates from NOAA Ocean Exploration staff and engage in discussions about current and future programs; data integration and analysis capabilities currently being deployed by the private sector; and how NOAA mapping and exploration activities in the Pacific Ocean can support National strategic objectives. Portions of the meeting may be partially closed to the public based upon provisions of the Government in the Sunshine Act of 1976 (Pub. L. 94-409). The agenda and other meeting materials will be made available on the OEAB website at https://oeab.noaa.gov/.

Status: The meeting will be open to the public via remote access and include a 30-minute public comment period on Thursday, July 7, 2022, from 11:00-11:30 a.m. (EDT). Please check the final agenda on the OEAB website to confirm the public comment period schedule.

The OEAB expects that public statements at its meetings will not be repetitive of previously submitted verbal or written statements. In general, each individual or group making a verbal presentation will be limited to three minutes. The Designated Federal Officer must receive written comments by June 27, 2022, to provide sufficient time for OEAB review. Written comments received after June 27, 2022, will be distributed to the OEAB but may not be reviewed prior to the meeting date. Comments should be submitted to Designated Federal Officer David.Turner@NOAA.gov.

Special Accomodations: Requests for sign language interpretation or other auxiliary aids should be directed to the Designated Federal Officer by June 27, 2022.

Paul Johnson,
Acting Chief Financial and Administrative Officer, Office of Oceanic and Atmospheric Research, National Oceanic and Atmospheric Administration.

[FR Doc. 2022-13925 Filed 6-28-22; 8:45 am]

BILLING CODE 3510-KA-P